SMALL BUSINESS ADMINISTRATION

Federal Register Meeting Notice; Advisory Committee on Veterans Business Affairs

AGENCY: U.S. Small Business Administration.

ACTION: Notice of open Federal Advisory Committee Meeting.

SUMMARY: The SBA is issuing this notice to announce the location, date, time, and agenda for the next meeting of the Advisory Committee on Veterans Business Affairs. The meeting will be open to the public.

DATES: The meeting will be held on June 24-25, 2008, from 9 a.m. to 5 p.m. Eastern Standard Time, each day.

ADDRESSES: The meeting will be held at the U.S. Small Business Administration, 409 3rd Street, SW., Eisenhower Conference Room, 2nd floor, Washington, DC 20416.

SUPPLEMENTARY INFORMATION: Pursuant to section 10(a)(2) of the Federal Advisory Committee Act (5 U.S.C., Appendix 2), SBA announces the meeting of the Advisory Committee on Veterans Business Affairs. The Advisory Committee on Veterans Business Affairs serves as an independent source of advice and policy recommendation on issues of interest to veteran-owned small businesses to the President, Congress, SBA Administrator, and other policy makers.

The purpose of the meeting is scheduled as a full committee meeting. The agenda will include: (1) Status of the current committee; (2) Orientation for new members; (3) Discussion of the permanency of SBA's Advisory Committee; (4) A review of SBA's Programs and Services; and (5) Implementation steps of Public Law 110-186.

FOR FURTHER INFORMATION CONTACT: The meeting is open to the public; however, advance notice of attendance is requested. Anyone wishing to attend and/or make a presentation to the Advisory Committee on Veterans Business Affairs must contact Cheryl Clark, Program Liaison, by June 19, 2008, by fax or e-mail in order to be placed on the agenda. Cheryl Clark, Program Liaison, U.S. Small Business Administration, Office of Veterans Business Development, 409 3rd Street, SW., Washington, DC 20416, Telephone number: (202) 205-6773, Fax number: 202-481-6085, e-mail address: cheryl.clark@sba.gov.

Additionally, if you need accommodations because of a disability or require additional information, please contact Cheryl Clark.

Dated: May 13, 2008.
Cherylyn Lebon,
SBA Committee Management Officer.

[FR Doc. E8-11109 Filed 5-16-08; 8:45 am]

BILLING CODE 8025-01-P